ENVIRONMENTAL PROTECTION AGENCY

[OW-2004-0013, FRL-7802-6]

Agency Information Collection Activities: Proposed Collection; Comment Request; EPA Strategic Plan Information on Source Water Assessment and Protection

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB). This is a request to renew an existing approved collection. The ICR is scheduled to expire on October 31, 2004. Before submitting the ICR to OMB for review and approval, EPA is soliciting comments on specific aspects of the proposed information collection as described below.

DATES: Comments must be submitted on or before October 18, 2004.

ADDRESSES: Submit your comments, referencing docket ID number OW-2004-0013, to EPA online using EDOCKET (our preferred method), by e-mail to OW-Docket@epa.gov, or by mail to: EPA Docket Center, Environmental Protection Agency, Water Docket, MC 4101T, 1200 Pennsylvania Avenue, NW., Washington, DC 20460.

FOR FURTHER INFORMATION CONTACT: Kevin Barnes, Office of Ground Water and Drinking Water, Drinking Water Protection Division, MC 4606M, Environmental Protection Agency, 1200 Pennsylvania Ave., NW., Washington, DC 20460; telephone number: (202) 564-3893; fax number: (202) 564-3756; e-mail address: barnes.kevin@epamail.epa.gov.

SUPPLEMENTARY INFORMATION: EPA has established a public docket for this ICR under Docket ID number OW-2004-0013, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities potentially affected by this action are the 52 States and territories.

Title: EPA Strategic Plan Information on Source Water Assessment and Protection.

Abstract: Section 1453(a)(3) of the Safe Drinking Water Act requires States to submit to EPA a Source Water Assessment Program within 18 months after issuance of the national guidance on State Source Water Assessment and Protection Programs, which was issued by EPA on August 5, 1997. Upon EPA approval of the programs, States conducted source water assessments of their public water systems. The Assessment Program will be completed by States relative to the SDWA because State assessments were required under section 1453. (The burden and cost associated with any remaining assessment work has already been calculated under previous ICRs).

The EPA Strategic Plan (2003-2008) includes source water assessment and protection program measures to analyze the aggregated results of the assessments and describe the voluntary source water protection actions taken at the local or regional level, based on the assessment results. This information is collected from States to understand, in aggregate, the results of State assessments and the protection actions in each State based on those assessments, and to measure progress toward the Agency's strategic goal that, by 2008, 50% of source water areas for community water systems will achieve minimized risk to public health. (“Minimized risk” is achieved by substantial implementation, as determined by the State, of source water protection actions in a source water protection strategy.) The information is collected through EPA's Strategic Planning process. An agency may not conduct or sponsor, and a person is not required to respond to, a collection of information unless it displays a currently valid OMB control number. The OMB control numbers for EPA's regulations in 40 CFR are listed in 40 CFR part 9.

EPA is collecting, on a voluntary basis, data from the States related to the status of assessment completion, the most prevalent and most threatening sources of contamination, overall risk to source waters, and progress toward substantial implementation of prevention strategies for all community water system source water areas. This data is generated under the authority of section 1453(a)(3) of the Safe Drinking Water Act. While implementing source water protection programs is not required under the Act, Drinking Water State Revolving Fund monies under section 1452 of the Safe Drinking Water Act may be used, and is being used, for set-aside activities to support these efforts.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and recordkeeping burden for this collection of information is estimated to average 81 hours per State response.

Estimated Number of Likely Respondents: 52.

Frequency of Response: Once per year.

Estimated Total Annual Hour Burden: 4,212 hours.

Estimated Total Annualized Cost Burden: $1,122,385.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: August 12, 2004.
Cynthia C. Dougherty,
Director, Office of Ground Water and Drinking Water.

[FR Doc. 04-18962 Filed 8-17-04; 8:45 am]

BILLING CODE 6560-50-P